DEPARTMENT OF EDUCATION

Office of Vocational and Adult Education; Overview Information; Tech-Prep Demonstration Program (TPDP); Notice Inviting Applications For New Awards in Fiscal Year (FY) 2005

Catalog of Federal Domestic Assistance (CFDA) Number: 84.353.

Dates: Applications Available: April 14, 2005.

Deadline for Transmittal of Applications: May 24, 2005.

Deadline for Intergovernmental Review: July 28, 2005.

Eligible Applicants: To be eligible for funding under the TPDP, a consortium must include at least one member in each of the following three categories:

(1) A local educational agency (LEA), an intermediate educational agency, an area vocational and technical education school serving secondary school students, or a secondary school funded by the Bureau of Indian Affairs;

(2)(a) A nonprofit institution of higher education that offers a two-year associate degree, two-year certificate, or two-year postsecondary apprenticeship program, or (b) a proprietary institution of higher education that offers a two-year associate degree program; and

(3) A business.

Under the provisions of section 204(a)(1) of the Carl D. Perkins Vocational and Technical Education Act of 1998 (Perkins III), to be eligible for consortium membership both nonprofit and proprietary institutions of higher education must be qualified as institutions of higher education pursuant to section 102 of the Higher Education Act of 1965, as amended (HEA), including institutions receiving assistance under the Tribally Controlled College or University Assistance Act of 1978 (25 U.S.C. 1801 et seq.) and tribally controlled postsecondary vocational and technical institutions.

In addition, nonprofit institutions of higher education are eligible only if they are not prohibited from receiving assistance under HEA, title IV, part B (20 U.S.C. 1071 et seq.), pursuant to the provisions of section 435(a)(3) of HEA (20 U.S.C. 1083(a)). Proprietary institutions of higher education are eligible only if they are not subject to a default management plan required by the Secretary.

Under the provisions of section 204(a)(2) of Perkins III, consortia also may include one or more: (1) Institutions of higher education that award baccalaureate degrees; (2) Employer organizations; or (3) Labor organizations.

Note: Eligible consortia seeking to apply for funds should read and follow the regulations in 34 CFR 75.127 through 75.129, which apply to group applications.

Estimated Available Funds: $9,838,177.

Estimated Range of Awards: $700,000 to $800,000 for the 60-month project period.

Estimated Average Size of Awards: $759,000.

Estimated Number of Awards: 13.

Note: The Department is not bound by any estimates in this Notice.

Project Period: 60 months. Additional information concerning length of awards, available funds, and award amounts is included in Section II (Award Information) of this notice.

Full Text of Announcement

I. Funding Opportunity Description

Purpose of Program: The TPDP provides grants to enable consortia described in section 204(a) of Perkins III to carry out tech-prep education projects authorized by section 207 of Perkins III that involve the location of a secondary school on the site of a community college, a business as a member of the consortium, and the voluntary participation of secondary school students. Following an initial recruitment period, funded projects will enroll a new student cohort in each year of the project and will continue to support each previous TPDP student cohort.

Priority: Under this competition we are particularly interested in applications that address the following priority.

Invitational Priority: For this competition, this priority is an invitational priority. Under 34 CFR 75.105(c)(1), we do not give an application that meets this invitational priority a competitive or absolute preference over other applications.

This priority is:

Student Choice: This priority encourages applications that propose to implement a TPDP project in a geographic area in which a large proportion or number of public high schools have been identified for improvement, corrective action, or restructuring under Title I, Part A of the Elementary and Secondary Education Act of 1965, as amended (ESEA), to provide an opportunity for students to attend a school that is not in need of improvement.

Requirements: Additional requirements for all projects funded under this competition are in the notice of final requirements and selection criteria, published elsewhere in this issue of the Federal Register.

Program Authority: 20 U.S.C. 2376.

Applicable Regulations: (a) The Education Department General Administrative Regulations (EDGAR) in 34 CFR parts 74, 75, 77, 79, 80, 81, 82, 84, 85, 86, 97, 98, and 99. (b) the requirements and selection criteria in the notice of final requirements and selection criteria published elsewhere in this issue of the Federal Register.

Note: The regulations in 34 CFR part 79 apply to all applicants except federally recognized Indian tribes.

Note: The regulations in 34 CFR part 86 apply to institutions of higher education only.

II. Award Information

Type of Award: Discretionary grant.

Estimated Available Funds: $9,838,177.

Estimated Range of Awards: $700,000 to $800,000 for the 60-month project period.

Estimated Average Size of Awards: $759,000

Estimated Number of Awards: 13.

Note: The Department is not bound by any estimates in this Notice.

Project Period: 60 months. Applicants under this competition are required to provide detailed budget information for each year of the proposed project and for the total grant. The Department will negotiate funding levels for each 12-month period of the grant at the time of the award. Grants under this competition will be made from both the FY 2004 and the FY 2005 TPDP appropriations. The FY 2005 appropriation for TPDP, although already enacted, will not be available to the Secretary for obligation until July 1, 2005. Therefore, partial TPDP grant awards will be made with funds from the FY 2004 TPDP appropriation, following the selection of grantees. The remainder of the TPDP grant awards will be made as supplemental awards to grantees on or soon after July 1, 2005, when funds from the FY 2005 TPDP appropriation become available for obligation by the Secretary.

Note: The Secretary has concluded that five-year awards are necessary for TPDP grantees to fully meet the statutory purposes of section 207 of Perkins III and the requirements of this notice. By definition, tech-prep programs combine at least two years of secondary education with a minimum of two years of postsecondary education in a nonduplicative, sequential course of study, and result in the attainment of a postsecondary degree or certificate. As outlined in this notice, five-year funding will: (a) Allow funded projects to engage in a lengthy recruitment effort and meet their enrollment goals; (b) enable the first cohort of students to complete the full four years of the tech-prep program and attain the necessary postsecondary degree or certificate; and (c) enable subsequent cohorts of students to complete a significant portion of the tech-prep program, thus increasing the likelihood that they will persist in their efforts to attain the necessary postsecondary degree or certificate. In addition, by enabling funded projects to conduct the full four-year tech-prep program, five-year funding will allow grantees and the Department to evaluate the effectiveness of the funded programs more thoroughly.

III. Eligibility Information

1. Eligible Applicants: To be eligible for funding under the TPDP, a consortium must include at least one member in each of the following three categories:

(1) An LEA, an intermediate educational agency, an area vocational and technical education school serving secondary school students, or a secondary school funded by the Bureau of Indian Affairs;

(2) (a) A nonprofit institution of higher education that offers a two-year associate degree, two-year certificate, or two-year postsecondary apprenticeship program, or (b) a proprietary institution of higher education that offers a two-year associate degree program; and

(3) A business.

Under the provisions of section 204(a)(1) of Perkins III, to be eligible for consortium membership both nonprofit and proprietary institutions of higher education must be qualified as institutions of higher education pursuant to section 102 of HEA, including institutions receiving assistance under the Tribally Controlled College or University Assistance Act of 1978 (25 U.S.C. 1801 et seq.) and tribally controlled postsecondary vocational and technical institutions.

In addition, nonprofit institutions of higher education are eligible only if they are not prohibited from receiving assistance under HEA, title IV, part B (20 U.S.C. 1071 et seq.), pursuant to the provisions of section 435(a)(3) of HEA (20 U.S.C. 1083(a)). Proprietary institutions of higher education are eligible only if they are not subject to a default management plan required by the Secretary.

Under the provisions of section 204(a)(2) of Perkins III, consortia also may include one or more: (1) Institutions of higher education that award baccalaureate degrees; (2) employer organizations; or (3) labor organizations.

Note: Eligible consortia seeking to apply for funds should read and follow the regulations in 34 CFR 75.127 through 75.129, which apply to group applications.

2. Cost Sharing or Matching: This competition does not involve cost sharing or matching but does involve supplement-not-supplant funding provisions.

IV. Application and Submission Information

1. Address to Request Application Package: Laura Messenger, U.S. Department of Education, 400 Maryland Avenue, SW., room 11028, Potomac Center Plaza, Washington, DC 20202-7241. Telephone: (202) 245-7840. Fax: (202) 245-7170. You may also obtain an application package via Internet from the following address: http://www.ed.gov/GrantApps/

If you use a telecommunications device for the deaf (TDD), you may call the Federal Relay Service (FRS) at 1-800-877-8339.

Individuals with disabilities may obtain this notice in an alternate format (e.g., Braille, large print, audiotape, or computer diskette) by contacting the program contact person listed in this section.

2. Content and Form of Application Submission: Requirements concerning the content of the application, together with the forms you must submit, are in the application package for this competition.

3. Submission Dates and Times:

Applications Available: April 14, 2005.

Deadline for Transmittal of Applications: May 31, 2005.

Applications for grants under this competition may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

Deadline for Intergovernmental Review: July 28, 2005.

4. Intergovernmental Review: This program is subject to Executive order 12372 and the regulations in 34 CFR part 79. Information about Intergovernmental Review of Federal Programs under Executive Order 12372 is in the application package for this competition.

5. Funding Restrictions: We reference regulations outlining funding restrictions in the Applicable Regulations section of this notice. In addition, some specific categories of allowable TPDP spending and some specific funding restrictions apply to TPDP projects:

Allowable Costs

Allowable activities and expenditures for TPDP projects include, but are not limited to: Recruitment and enrollment of students; staff hiring; updating of articulation agreements; curriculum revision; professional development for secondary and postsecondary faculty, counselors, and administrators; and development and maintenance of business and industry partnerships. In addition, section 207(b)(2) of Perkins III specifies that TPDP projects may provide summer internships at a business for students or teachers.

Section 207 of Perkins III gives applicants latitude for innovation. Subject to applicable funding restrictions, section 204(c)(3)(B) of Perkins III authorizes tech-prep programs that allow students to concurrently complete both secondary and postsecondary courses, and simultaneously satisfy requirements for a high school diploma and an associate degree or other postsecondary credential.

Unallowable Costs

(1) Supplanting. In accordance with section 311(a) of Perkins III, funds under this program may not be used to supplant non-Federal funds used to carry out vocational and technical education activities and tech-prep activities. Further, the prohibition against supplanting also means that grantees are required to use their negotiated restricted indirect cost rate under this program. (34 CFR 75.563.)

Because of the statutory prohibition against supplanting, we caution applicants not to plan to use Federal funds awarded under section 207 of Perkins III to replace non-Federal funding that is already, or that otherwise would be, available for support of the TPDP projects to be assisted. Further, we are concerned that TPDP funds may be used to replace Federal student financial aid. We wish to highlight the fact that the statute does not authorize us to fund projects that serve primarily as entities through which students may apply for and receive tuition and other financial assistance.

(2) Construction. Under § 75.533 of EDGAR (34 CFR 75.533), TPDP grants cannot be used for the acquisition of real property or construction because Perkins III does not specifically permit use of TPDP funds for these purposes.

(3) Articulation Agreements with Four-Year Institutions. Under the provisions of section 207(d) of Perkins III, tech-prep articulation agreements with four-year institutions cannot be supported with TPDP funds awarded under section 207 of Perkins III. However, articulation agreements with four-year institutions can be developed using other resources by applicants who wish to establish “open-ended” tech-prep career pathways. Also, the inclusion in TPDP consortia of institutions of higher education that award baccalaureate degrees is allowable under section 204(a)(2)(A) of Perkins III.

6. Other Submission Requirements: Applications for grants under this competition may be submitted electronically or in paper format by mail or hand delivery.

a. Electronic Submission of Applications. If you choose to submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print the ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.353), 400 Maryland Avenue, SW., Washington, DC 20202-4260; or

By mail through a commercial carrier: U.S. Department of Education, Application Control Center—Stop 4260, Attention: (CFDA Number 84.353), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.353), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are as follows:

(1) Quality of the project design. (40 points)

In determining the quality of the design of the proposed project, we consider the following factors:

(a) The extent to which the applicant demonstrates its readiness to implement a complete, career-oriented, four-year program of study, as evidenced by a formal articulation agreement concerning the structure, content, and sequence of all academic and technical courses to be offered in the proposed tech-prep program and, if applicable, the conditions under which dual credit will be awarded. (5 points)

(b) The extent to which the applicant's proposed secondary academic and technical course offerings and graduation requirements prepare students to enter postsecondary education without the need for remediation and are aligned with the entrance requirements for postsecondary degree and certificate programs. (5 points)

(c) The extent to which the proposed instructional program incorporates high academic standards that equal or exceed those established by the State and reflects industry-recognized skills and knowledge. (5 points)

(d) The extent to which the applicant demonstrates that consortium efforts will align the ninth-grade and tenth-grade curricula with proposed TPDP program entrance requirements, to ensure a sizable, qualified applicant pool for the proposed TPDP program. (5 points)

(e) The extent to which the applicant presents a detailed student recruitment plan that is likely to be effective in fulfilling the project's enrollment goals for each year of the project. (5 points)

(f) The extent to which the applicant demonstrates that it has designed a comprehensive academic and career counseling program for participating students at both the secondary and postsecondary levels and will provide specific support services to ensure students' persistence in the program to the attainment of a postsecondary degree or certificate. (5 points)

(g) The extent to which the applicant demonstrates that the business member(s) of the consortium and other area employers have agreed to provide structured work-based learning opportunities to TPDP students that are directly related to the proposed technical program(s) of study. (5 points)

(h) The extent to which the proposed project will provide intensive professional development, specifically designed to help achieve the goals of the program, for secondary and postsecondary instructors, counselors, and administrators involved in the program. (5 points)

(2) Quality of the management plan. (15 points)

In determining the quality of the management plan for the proposed project, we consider the following factors:

(a) The extent to which the management plan outlines specific, measurable goals, objectives, and outcomes to be achieved by the proposed project. (5 points)

(b) The extent to which the management plan assigns responsibility for the accomplishment of project tasks to specific project personnel and provides timelines for the accomplishment of project tasks. (5 points)

(c) The extent to which the time commitments of the project director and other key personnel are appropriate and adequate to achieve the objectives of the proposed project. (5 points)

(3) Quality of project personnel. (15 points)

In determining the quality of project personnel, we consider the following factors:

(a) The extent to which the applicant encourages applications for employment from members of groups that have traditionally been underrepresented based on race, color, national origin, gender, age, or disability. (5 points)

(b) The qualifications, including relevant training and experience, of the project director. (5 points)

(c) The qualifications, including relevant training and experience, of key project personnel, including teachers, counselors, administrators, and project consultants. (5 points)

(4) Adequacy of resources. (10 points)

In determining the adequacy of resources for the proposed project, we consider the following factors:

(a) The adequacy of support, including facilities, equipment, supplies, and other resources, from the participating institutions. (5 points)

(b) The extent to which the budget is adequate and costs are reasonable in relation to the objectives and design of the proposed project. (5 points)

(5) Quality of the project evaluation. (20 points)

In determining the quality of the evaluation, we consider the following factors:

(a) The extent to which the methods of evaluation are thorough, feasible, and appropriate, will solicit input from all consortium members regarding program effectiveness, and will yield accurate and reliable data for each of the required performance indicators. (10 points)

(b) The extent to which the evaluation will produce reports or other documents at appropriate intervals to enable consortium members to use the data for planning and decision making for continuous program improvement. (5 points)

(c) The extent to which the independent evaluator possesses the necessary background and expertise to carry out the evaluation. (5 points)

2. Special Considerations. In addition to the points to be awarded to applicants based on the selection criteria in this notice, under section 207(d)(3) of Perkins III, we will award five additional points to applications that:

(1) Provide for effective employment placement activities;

(2) Effectively address the issues of school dropout prevention and reentry, as well as the needs of special populations;

(3) Provide education and training in career areas or skills in which there are significant workforce shortages, including the information technology industry; and

(4) Demonstrate how tech-prep programs will help students meet high academic and employability competencies.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. For specific requirements on grantee reporting, please review the Grant Performance Report forms and instructions (ED 524-B) at http://www.ed.gov/fund/grant/apply/appforms/appforms.html.

4. Performance Measures: We describe the requirement for each applicant to submit specific annual performance goals for the required specific performance indicators identified in paragraph (6) of the Requirements section of the notice of final requirements and selection criteria, published elsewhere in this issue of the Federal Register.

VII. Agency Contact

For Further Information Contact: Laura Messenger, U.S. Department of Education, 400 Maryland Avenue, SW., room 11028, Potomac Center Plaza, Washington, DC 20202-7241. telephone: (202) 245-7840 or by e-mail: laura.messenger@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to this Document: You may view this document, as well as all other documents of this Department published in the Federal Register, in text or Adobe Portable Document Format (PDF) on the Internet at the following site: http://www.ed.gov/news/fedregister.

To use PDF you must have the Adobe Acrobat Reader, which is available free at this site. If you have questions about using PDF, call the U.S. Government Printing Office (GPO) toll free at 1-888-293-6498, or in the Washington, DC, area at (202) 512-1530.

Note: The official version of this document is the document published in the Federal Register. Free Internet access to the official edition of the Federal Register and the Code of Federal Regulations is available on GPO Access at: http://www.gpoaccess.gov/nara/index.html.

Dated: April 11, 2005.
Susan Sclafani,
Assistant Secretary for Vocational and Adult Education.

[FR Doc. 05-7527 Filed 4-13-05; 8:45 am]

BILLING CODE 4000-01-P